DEPARTMENT OF VETERANS AFFAIRS

[OMB Control No. 2900-0060]

Agency Information Collection (Claim for One Sum Payment (Government Life Insurance)) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before September 4, 2008.

ADDRESSES: Submit written comments on the collection of information through www.Regulations.gov; or to VA's OMB Desk Officer, OMB Human Resources and Housing Branch, New Executive Office Building, Room 10235, Washington, DC 20503 (202) 395-7316. Please refer to “OMB Control No. 2900-0060” in any correspondence.

FOR FURTHER INFORMATION CONTACT: Denise McLamb, Records Management Service (005R1B), Department of Veterans Affairs, 810 Vermont Avenue, NW., Washington, DC 20420, (202) 461-7485, fax (202) 273-0443 or e-mail denise.mclamb@mail.va.gov. Please refer to “OMB Control No. 2900-0060.”

SUPPLEMENTARY INFORMATION: Titles:

a. Claim for One Sum Payment (Government Life Insurance), VA Form 29-4125.

b. Claim for Monthly Payments (National Service Life Insurance), VA Form 29-4125a.

c. Claim for Monthly Payments (United States Government Life Insurance, (USGLI)), VA Form 29-4125k.

OMB Control Number: 2900-0060.

Type of Review: Extension of a currently approved collection.

Abstract: Beneficiaries of deceased veterans must complete VA Form 29-4125 to apply for proceeds of the veteran's Government Insurance policies. If the beneficiary desires monthly installment in lieu of one lump payment he or she must complete VA Forms 29-4125a and 29-4125k. VA uses the information to determine the claimant's eligibility for payment of insurance proceeds and to process monthly installment payments.

An agency may not conduct or sponsor, and a person is not required to respond to a collection of information unless it displays a currently valid OMB control number. The Federal Register Notice with a 60-day comment period soliciting comments on this collection of information was published on May 19, 2008, at page 28859.

Affected Public: Individuals or households.

Estimated Annual Burden: 8,787 hours.

a. VA Form 29-4125—8,200 hours.

b. VA Form 29-4125a—462 hours.

c. VA Form 4125k—125 hours.

Estimated Average Burden Per Respondent:

a. VA Form 29-4125—6 minutes.

b. VA Form 29-4125a—15 minutes.

c. VA Form 4125k—15 minutes.

Frequency of Response: On occasion.

Estimated Number of Respondents: 84,350.

a. VA Form 29-4125—82,000.

b. VA Form 29-4125a—1,850.

c. VA Form 4125k—500.

Dated: July 24, 2008.
By direction of the Secretary.
Denise McLamb,
Program Analyst, Records Management Service.

[FR Doc. E8-17848 Filed 8-4-08; 8:45 am]

BILLING CODE 8320-01-P